DEPARTMENT OF COMMERCE

International Trade Administration

(A-570-827)

Certain Cased Pencils from the People's Republic of China: Amended Final Results of Antidumping Duty Administrative Review

AGENCY: Import Administration, International Trade Administration, Department of Commerce.

SUMMARY: On July 13, 2009, the Department of Commerce (“the Department”) published the final results of the administrative review of the antidumping duty order on certain cased pencils from the People's Republic of China (“PRC”), covering the period December 1, 2006, through November 30, 2007. See Certain Cased Pencils from the People's Republic of China: Final Results and Partial Rescission of Antidumping Duty Administrative Review, 74 FR 33406 (July 13, 2009) (“Final Results”). We are amending the Final Results to correct ministerial errors in the calculation of the weighted-average margin and the assessment rate applicable to entries by certain respondents to this proceeding, China First Pencil Co., Ltd. (“China First”), Shanghai Three Star Stationery Industry Co., Ltd. (“Three Star”), and Orient International Holding Shanghai Foreign Trade Corporation (“SFTC”) (collectively, “Respondents”), pursuant to section 751(h) of the Tariff Act of 1930, as amended (“the Act”), and 19 CFR 351.224(e). We released the final amended results to the parties on Wednesday, August 19, 2009. However, that version inadvertently included an incorrect weighted average margin for SFTC, so this amended final results correct that error. The error was discovered prior to publication in the Federal Register; consequently, this amended notice is being published in its place.

EFFECTIVE DATE: September 1, 2009.

FOR FURTHER INFORMATION CONTACT: David Layton or Alexander Montoro, at (202) 482-0371 or (202) 482-0238, respectively; AD/CD Operations, Office 1, Import Administration, International Trade Administration, U.S. Department of Commerce, 14th Street and Constitution Avenue, NW, Washington, DC 20230.

SUPPLEMENTARY INFORMATION:

Background

On July 20, 2009, China First, Three Star and SFTC submitted timely allegations of ministerial errors pursuant to 19 CFR 351.224(c)(1). First, Respondents alleged that the Department did not use the correct conversion percentage for slats. Second, Respondents alleged that the Department did not calculate the surrogate value for slats correctly. Third, Respondents alleged that the Department valued both lacquer and the inputs to make lacquer. Fourth, Respondents alleged that the Department should not have inflated the surrogate value for plastic toppers. Finally, Respondents alleged that the Department should adjust the separate rate assigned to SFTC after correcting for the above-described allegations of ministerial errors. See Memorandum from David Layton, Alexander Montoro, and Joseph Shuler, International Trade Compliance Analysts, to Susan Kuhbach, Director of AD/CD Operations, Office 1, “Ministerial Error Allegations” (August 18, 2009) (“Ministerial Error Allegations Memo”).

On July 28, 2009, the petitioners to this proceeding, Sanford L.P., Musgrave Pencil Company, RoseMoon Inc., and General Pencil Company (collectively, “Petitioners”), submitted a reply to China First's, Three Star's and SFTC's ministerial error allegations. Petitioners argued that the Department must take into account China First's full lumber-to-slat yield loss ratio when calculating China First's slat surrogate value. In addition, Petitioners argued that the Department should use an average of yield loss ratios reported by China First and another respondent, Shandong Rongxin Import & Export Co., Ltd (“Rongxin”), to calculate Three Star's yield loss ratio for slats. Moreover, Petitioners asserted that the Department properly calculated the surrogate value for slats, lacquer and plastic toppers.

Amended Final Results of Review

A ministerial error, as defined in section 751(h) of the Act, includes “errors in addition, subtraction, or other arithmetic function, clerical error resulting from inaccurate copying, duplication, or the like, and any other type of unintentional error which the {Secretary} considers ministerial.” See also 19 CFR 351.224(f). After analyzing Respondents' allegations, we have determined, in accordance with section 751(h) of the Act and 19 CFR 351.224(e), that the Department made ministerial errors in the Final Results by not using the correct yield loss conversion percentage to calculate China First's and Three Star's surrogate value for slats; and by using a surrogate dollar value not based on kilograms in its slat surrogate value calculation for China First, Three Star, and Rongxin. In addition, the Department made a ministerial error by valuing both lacquer and the inputs to make lacquer, resulting in double-counting. The Department also made a ministerial error by using an incorrect surrogate value for plastic toppers. Correcting for those ministerial errors also requires the Department to adjust the separate rate assigned to SFTC. For additional explanation, see the Ministerial Error Allegations Memo.

Therefore, we are amending the final results of administrative review of certain cased pencils from the PRC for the period December 1, 2006, through November 30, 2007, to include the revised surrogate value calculations for slats, lacquer and plastic toppers. The revised weighted-average percentage dumping margin for China First, Three Star, and SFTC are as follows:

Manufacturer/exporter | Margin (percent)
China First Pencil Company, Ltd. (which includes its affiliates China First Pencil Fang Zheng Co., Shanghai First Writing Instrument Co., Ltd., and Shanghai Great Wall Pencil Co., Ltd.) | 10.41
Shanghai Three Star Stationery Industry Corp | 59.62
Shandong Rongxin Import & Export Co., Ltd¹ | 11.48
Orient International Holding Shanghai Foreign Trade Co., Ltd | 32.21
PRC-wide Entity² | 114.90
¹ We have not addressed comments pertaining to clerical error allegations relating to Rongxin's margin in the Final Results because the U.S. Court of International Trade has obtained jurisdiction of those results pursuant to Rongxin having filed a complaint. See Shandong Rongxin Import & Export Co., Ltd. v. United States, Court No. 09-00316 (Complaint filed August 8, 2009); see also Zenith Elecs. Corp. v. United States, 884 F.2d 556, 561 (Fed. Cir. 1989).
² The PRC-wide entity includes Anhui Import Export Co., Ltd., Guangdong Provincial Stationery and Sporting Goods Import Export Corporation, and Tianjin Custom Wood Processing Co., Ltd. A review was requested for these three companies.

Assessment Rate

The Department will determine, and U.S. Customs and Border Protection (“CBP”) shall assess, antidumping duties on all appropriate entries based on the amended final results. For details on the assessment of antidumping duties on all appropriate entries, see the Final Results.

The Department intends to issue appropriate assessment instructions directly to CBP 15 days after the date of publication of the amended final results of the administrative review.

Cash Deposit Requirements

The following deposit rates will be effective retroactively on any entries made on or after July 13, 2009, the date of publication of the Final Results, for all shipments of certain cased pencils from the PRC entered, or withdrawn from warehouse, for consumption on or after the publication date, as provided by section 751(a)(2)(C) of the Act: (1) the cash deposit rate for the reviewed companies named above will be the rates established in the amended final results of this review, except if a rate is less than 0.5 percent, and therefore de minimis, the cash deposit rate will be zero; (2) for any previously reviewed or investigated PRC or non-PRC exporter, not covered in this review, with a separate rate, the cash deposit rate will be the company-specific rate established in the most recent segment of this proceeding; (3) for all other PRC exporters, the cash deposit rate will be the PRC-wide rate established in the final results of this review which is 114.90 percent; and (4) the cash-deposit rate for any non-PRC exporter of subject merchandise from the PRC will be the rate applicable to the PRC exporter that supplied that exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

Notification to Interested Parties

This notice is also the reminder to parties subject to administrative protective order (“APO”) of their responsibility concerning the return or destruction of proprietary information disclosed under APO in accordance with 19 CFR 351.305(a)(3). Timely written notification of the return/destruction of APO materials or conversion to judicial protective order is hereby requested. Failure to comply with the regulations and the terms of an APO is a sanctionable violation

Disclosure

We will disclose the calculations performed for these amended final results within five days of the date of publication of this notice to interested parties in accordance with 19 CFR 351.224(b).

We are issuing and publishing these results and notice in accordance with sections 751(a)(1) and 777(i)(1) of the Act.

Dated: August 24, 2009.
Ronald K. Lorentzen,
Acting Assistant Secretary for Import Administration.

[FR Doc. E9-21005 Filed 8-31-09; 8:45 am]

BILLING CODE 3510-DS-S